DEPARTMENT OF THE INTERIOR

National Park Service

Notice of Inventory Completion: Brigham Young University, Museum of Peoples and Cultures, Provo, UT

AGENCY: National Park Service, Interior.

ACTION: Notice.

Notice is here given in accordance with the Native American Graves Protection and Repatriation Act (NAGPRA), 25 U.S.C. 3003, of the completion of an inventory of human remains and associated funerary objects in the possession of the Brigham Young University, Museum of Peoples and Cultures, Provo, UT. The human remains and associated funerary objects were removed from Kane and San Juan Counties, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Between 1993 and 1996, a detailed assessment of the human remains and associated funerary objects was made by the Brigham Young University, Museum of Peoples and Cultures, professional staff in consultation with representatives of the Hopi Tribe of Arizona; Kaibab Band of Paiute Indians of the Kaibab Indian Reservation, Arizona; Ohkay Owingeh, New Mexico (formerly the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

At an unknown date, human remains representing a minimum of 23 individuals were removed from four unidentified caves in San Juan County, UT. Between 1893 and 1894, Mr. Charles Lang and Mr. Platte Lyman donated the human remains to the Deseret Museum, Salt Lake City, UT, which was later incorporated into the Church History Museum of the Church of Jesus Christ of Latter-day Saints in Salt Lake City, UT. The collection became known as the Lang-Lyman Collection, and was acquired by the Museum of Peoples and Cultures through museum transfers in 1966 and 1995, and accessioned (Catalog Nos. 1966.55.1.1, 1966.56.1.1, 1966.57.2.1, 1966.57.3.1. 1966.57.7.1, 1966.58.1.0, 1966.58.2.0, 1966.58.3.1, 1966.58.4.1, 1966.58.5.1, 1966.58.5.2, 1966.58.6.1, 1966.58.7.1, 1966.58.8.1, 1966.58.9.1, 1966.58.10.1, 1966.59.1.1, 1966.60.1.1, 1966.61.1.1, 1966.62.1.1, 1966.62.2.1, 1966.62.4.0, and 1966.64.01.1). No known individuals were identified. The 127 associated funerary objects are 1 spear, 1 small spear, 9 sandals, 6 animal skins, 1 net bag, 1 net, 5 atlatl darts, 2 feathered blankets, 2 buckskin pouches, 8 baskets, 1 piece of leather, 1 moccasin, 1 pipe, 1 onyx pipe bowl, 14 turkey feathers, 1 bundle of human hair, 1 mug, 1 leather pouch, 1 piece of buckskin, 1 gourd container, 60 feathers, 1 bone awl, 1 stone implement, 1 ceramic bowl, 1 wooden pillow, 1 throwing stick and 3 ceramic vessels.

At an unknown date, human remains representing a minimum of one individual were removed from an unknown site, in either Kane or San Juan County, UT. These remains are also part of the previously mentioned Lang-Lyman Collection, acquired and accessioned by the Museum of Peoples and Cultures through museum transfers in 1966 (Catalog No. 1966.63.1.1). No known individual was identified. The four associated funerary objects are one basket, one feather and yucca blanket, one lot of seed corn and one feather blanket.

Documentation surrounding the Lang-Lyman expedition indicates that all the burials were found within various dry cave locations. This is consistent with the deposition of other known prehistoric Puebloan burials. In addition, the typology of the objects found with the human remains supports the determination that these burials are affiliated with the prehistoric Anasazi culture.

At an unknown date, human remains representing a minimum of three individuals were removed from an unknown location in Iceberg Canyon near Lake Powell, San Juan County, UT, by private individuals. No further geographical information is known. In 1971, the human remains were donated to the Museum of Peoples and Cultures and were accessioned (Catalog No. 1971.11.5.0). No known individuals were identified. The one associated funerary objects is one lot of clothing fragments.

A twisted fragment of animal hide present on one of the sets of the human remains may represent the remains of a Basketmaker-style rabbitskin robe. Based on the presence of the clothing fragments, it is reasonably determined that the burials date to either the late Basketmaker or early Pueblo era of the Anasazi culture. Based on the period to which the burials date and the general location in which they were found, museum officials have determined that the burials are prehistoric Anasazi and affiliated with modern Puebloan cultures.

In 1971, human remains representing a minimum of one individual were removed from 42Sa2110, Nancy Patterson Village, in Montezuma Canyon, San Juan County, UT, by Nancy Patterson. The human remains were donated to the Museum of Peoples and Cultures later that same year and accessioned (Catalog No. 1971.46.3-13). No known individual was identified. No associated funerary objects are present.

In 1980, human remains representing a minimum of two individuals were removed from 42Sa2110, Nancy Patterson Village, in Montezuma Canyon, San Juan County, UT. The human remains were donated to the Museum of Peoples and Cultures later that same year and accessioned (Catalog Nos. 1980.9.16.0 and 1980.9.17.0). No known individuals were identified. No associated funerary objects are present.

The Nancy Patterson Village (42Sa2110) was principally excavated as a Brigham Young University field school from 1983-1986. The collections from this period are not held at the museum. Prior to that time, smaller collections were gathered from the surface of the site during various field trips, which were led by Brigham Young University Department of Anthropology faculty. Based on the presence of Anasazi-type ceramics and architecture at the site, these burials have been determined to be prehistoric Anasazi and affiliated with modern Puebloan cultures.

At an unknown date, human remains representing a minimum of one individual were removed from an unknown location within Montezuma Canyon, San Juan County, UT. In 1972, the human remains were donated to the Museum of Peoples and Cultures by a private individual and accessioned (Catalog Nos. 1972.51.0.0-1972.51.0.9). No further information regarding the collection is known. No known individual was identified. No associated funerary objects are present.

The human remains appear to date to approximately the Basketmaker/Pueblo period. Based on the time period to which this burial dates and the general location of the site, museum officials have determined that this burial is prehistoric Anasazi and affiliated with modern Puebloan cultures.

In 1974, human remains representing a minimum of one individual were removed from 42Sa3786, White Mesa, San Juan County, UT. This site was surveyed by Brigham Young University as part of a transmission line project contracted by Utah Power and Light. In 1976, the collection from that project was donated to the Museum of Peoples and Cultures and accessioned (Catalog Nos. 1976.52.45.1-16). No known individual was identified. No associated funerary objects are present.

In 1984, Dr. Dale Berge published a report on the collection from White Mesa entitled “Archaeological Investigations of the Pinto-Abajo Transmission Line, San Juan County, Utah.” Based on the presence of Anasazi-type ceramics and architecture at the site, the individual has been determined to be prehistoric Anasazi and affiliated with modern Puebloan cultures.

At an unknown date, human remains representing a minimum of one individual were removed from an unknown site. In 1981, the Museum of Peoples and Cultures received and accessioned the human remains from a private individual (Catalog No. 1981.5.1.1). Museum records indicate that this individual received the human remains from a third source, who reportedly acquired the remains from a dry cave in San Juan County, west of Blanding, UT. No further provenience information is known. No known individual was identified. No associated funerary objects are present.

Museum records indicate that the original collector reported the skull to be prehistoric Anasazi/Basketmaker. Based on the provenience and appearance of the human remains, and without the presence of contradictory information, museum personnel have reasonably concluded that this individual is most likely prehistoric Anasazi, and therefore affiliated with modern Puebloan cultures.

In 1983, human remains representing a minimum of two individuals were removed from 42Ka2574, Hog Creek, on the north edge of Hog Creek Canyon, Kane County, UT, by Brigham Young University's Office of Public Archaeology, as part of a construction mitigation project for the relocation of US Highway 89. In 1984, the collection was donated to the Museum of Peoples and Cultures. No known individuals were identified. The six associated funerary objects are one bone pendant, one mano fragment, three stone beads and one lot of numerous bead fragments.

The site was later reported in a 1987 publication: “Archaeological Excavation at Hog Creek Canyon Dune Site 42Ka2574, Hog Creek Canyon, Kane County Utah.” Based on a radiocarbon sample taken from the matrix of the burials, the Hog Creek site was determined to be prehistoric Basketmaker/Anasazi and affiliated with modern Puebloan cultures.

Between 1969 and 1973, human remains representing a minimum of one individual were removed from 42Sa971, Monument Village, at the convergence of Montezuma Canyon and Monument Canyon, San Juan County, UT, by a Brigham Young University field school. In 1988, the human remains were donated and accessioned (Catalog No. 1988.164.168.0). No known individual was identified. No associated funerary objects are present.

The collection was reported in two Brigham Young University publications. The first report, “A Preliminary Study of an Anasazi Settlement (42Sa971) Prior to AD 900 in Montezuma Canyon, San Juan County, Southeastern Utah” was written by Gregory Patterson. The second report, “A Preliminary Classification of Anasazi Ceramics from Montezuma Canyon, San Juan County, Southeastern Utah” was written by Dr. Donald Forsyth. Based on the presence of Anasazi-type ceramics and architecture at the site, the human remains were determined to be prehistoric Anasazi and affiliated with modern Puebloan cultures.

Archeological data, artifact typology and cultural components at each of the above-mentioned sites supports the determination that the human remains are Ancestral Puebloan. The Ancestral Puebloans are a prehistoric culture, and are reasonably determined to be linked to modern Puebloan cultures through geography, culture history, oral history and anthropological information. The folklore of modern pueblos places them in the Ancestral Puebloan area since prehistoric times. In addition, anthropological studies have demonstrated a continuity of culture between the modern pueblos and the Ancestral Puebloans.

Officials of the Museum of Peoples and Cultures have determined that, pursuant to 25 U.S.C. 3001(9), the human remains described above represent the physical remains of 36 individuals of Native American Ancestry. Officials of the Museum of Peoples and Cultures also have determined that, pursuant to 25 U.S.C. 3001(3)(A), the 138 objects described above are reasonably believed to have been placed with or near individual human remains at the time of death or later as part of the death rite or ceremony. Lastly, officials of the Museum of Peoples and Cultures have determined that there is a relationship of shared group identity which can reasonably be traced between the human remains and associated funerary objects and the Hopi Tribe of Arizona; Kaibab Band of Paiute Indians of the Kaibab Indian Reservation, Arizona; Pueblo of Acoma, New Mexico; Pueblo of Laguna, New Mexico; Pueblo of Pojoaque, New Mexico; Pueblo of Sandia, New Mexico; Pueblo of San Felipe, New Mexico; Pueblo of San Ildefonso, New Mexico; Pueblo of Santa Clara, New Mexico; Pueblo of Santa Domingo, New Mexico; and Zuni Tribe of the Zuni Reservation, New Mexico.

Representatives of any other Indian tribe that believes itself to be culturally affiliated with the human remains and associated funerary objects should contact Paul Stavast, Museum of Peoples and Cultures, Brigham Young University, 105 Allen Hall, Provo, UT 84602-3600, telephone (801) 422-0018, before October 25, 2010. Repatriation of the human remains and associated funerary objects to the Hopi Tribe of Arizona; Kaibab Band of Paiute Indians of the Kaibab Indian Reservation, Arizona; Pueblo of Acoma, New Mexico; Pueblo of Laguna, New Mexico; Pueblo of Pojoaque, New Mexico; Pueblo of Sandia, New Mexico; Pueblo of San Felipe, New Mexico; Pueblo of San Ildefonso, New Mexico; Pueblo of Santa Clara, New Mexico; Pueblo of Santa Domingo, New Mexico; and Zuni Tribe of the Zuni Reservation, New Mexico, may proceed after that date if no additional claimants come forward.

The Museum of Peoples and Cultures are responsible for notifying the Hopi Tribe of Arizona; Kaibab Band of Paiute Indians of the Kaibab Indian Reservation, Arizona; Ohkay Owingehm New Mexico; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico, that this notice has been published.

Dated: September 10, 2010
Sherry Hutt,
Manager, National NAGPRA Program.

[FR Doc. 2010-23901 Filed 9-23-10; 8:45 am]

BILLING CODE 4312-50-S